INTERNATIONAL TRADE COMMISSION

[Investigation No. 337-TA-739]

Certain Ground Fault Circuit Interrupters and Products Containing Same

AGENCY: U.S. International Trade Commission.

ACTION: Notice.

SUMMARY: Notice is hereby given that the U.S. International Trade Commission has instituted a formal enforcement proceeding relating to certain remedial orders issued in the above-captioned investigation on April 27, 2012.

FOR FURTHER INFORMATION CONTACT: Clark S. Cheney, Office of the General Counsel, U.S. International Trade Commission, 500 E Street, SW., Washington, DC 20436, telephone (202) 205-2661. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov/. Hearing-impaired persons are advised that information on the matter can be obtained by contacting the Commission's TDD terminal on 202-205-1810.

SUPPLEMENTARY INFORMATION: The Commission instituted this investigation on October 8, 2010, based on a complaint filed by Leviton Manufacturing Co., Inc., of Melville, New York (“Leviton”). 75 FR 62420 (Oct. 8, 2010). The complaint alleged violations of section 337 of the Tariff Act of 1930, as amended (19 U.S.C. 1337), in the importation into the United States, the sale for importation, and the sale within the United States after importation of certain ground fault circuit interrupters and products containing the same by reason of infringement of certain claims of U.S. Patent Nos. 7,463,124 (“the '124 patent”); 7,737,809 (“the '809 patent”); and 7,764,151 (“the '151 patent”). The notice of investigation named numerous respondents, including Menard, Inc., of Eau Claire, Wisconsin (“Menard”); Westside Wholesale Electric & Lighting, Inc.; Westside Electric Wholesale, Inc.; and Westside Wholesale, Inc., all of Bell, California and/or Los Angeles, California (collectively, “Westside”); America Ace Supply Inc. of San Francisco, California (“American Ace”); Shanghai ELE Manufacturing Corporation of Shanghai, China (“Shanghai ELE”); Shanghai Jia AO Electrical Co., Ltd., of Shanghai, China (“Shanghai Jia AO”); and American Electric Depot Inc. of Fresh Meadows, New York (“AED”).

On April 27, 2012, the Commission issued its final determination finding that Leviton had proven a violation of section 337 based on infringement of the '809 patent but had not proven a violation based on infringement of the '124 and '151 patents. The Commission issued a general exclusion order barring entry of ground fault circuit interrupters that infringe the '809 patent and cease and desist orders against certain respondents, including Menard, Westside, and American Ace.

On August 29, 2012, Leviton filed a complaint for enforcement proceedings under Commission rule 210.75(b). Leviton asserts that Menard, Westside, and American Ace have violated cease and desist orders in various ways, including by selling ground fault circuit interrupters that infringe claims 1-4, 6, 8-11, 13, 15-16, 35-37, 39, and 41-46 of the '809 patent, by selling infringing ground fault circuit interrupters during the Presidential review period without posting an appropriate bond, and by failing to file accurate reports with the Commission. Leviton also alleges that Shanghai ELE, Shanghai Jia AO, and AED have violated the general exclusion order entered in this investigation at least by importing ground fault circuit interrupters that infringe claims 1-4, 6, 8-11, 13, 15-16, 35-37, 39, and 41-46 of the '809 patent during the Presidential review period without posting an appropriate bond.

Having examined the complaint seeking a formal enforcement proceeding, and having found that the complaint complies with the requirements for institution of a formal enforcement proceeding contained in Commission rule 210.75, the Commission has determined to institute formal enforcement proceedings to determine whether Menard, Westside, American Ace have violated cease and desist orders issued in this investigation; whether Shanghai ELE, Shanghai Jia AO, and AED have violated the general exclusion order issued in the investigation; and what, if any, enforcement measures are appropriate. The Commission has determined to name Leviton as the complainant in the formal enforcement proceeding, and to name the following as respondents to the formal enforcement proceeding: Menard, Westside, America Ace, Shanghai ELE, Shanghai Jia AO, and AED. The Commission has also determined to name the Office of Unfair Import Investigations as a party to the enforcement proceeding.

The authority for the Commission's determination is contained in section 337 of the Tariff Act of 1930, as amended (19 U.S.C. 1337), and in section 210.75 of the Commission's Rules of Practice and Procedure (19 CFR 210.75).

By order of the Commission.
Issued: October 26, 2012.
Lisa R. Barton,
Acting Secretary to the Commission.

[FR Doc. 2012-26828 Filed 10-31-12; 8:45 am]

BILLING CODE 7020-02-P